FEDERAL COMMUNICATIONS COMMISSION

47 CFR Parts 73 and 74

[MB Docket Nos. 19-193, 17-105; Report No. 3154; FRS 16953]

Petitions for Reconsideration of Action in Proceeding

AGENCY: Federal Communications Commission.

ACTION: Petitions for Reconsideration.

SUMMARY: Petitions for Reconsideration have been filed in the Commission's proceeding by Foundation for a Beautiful Life; and by Todd Urick and Paul Bame (previously commenting under “LPFM/NCE Community-Radio Engineer Advocates” or “LPFM Advocates”), along with Peter Gray (KFZR-LP), Makeda Dread Cheatom (KVIB-LP), Brad Johnson (KGIG-LP), David Stepanyuk (KIEV-LP), and Andy Hansen-Smith (KCFZ-LP).

DATES: Oppositions to the Petition must be filed on or before September 4, 2020. Replies to an opposition must be filed on or before September 14, 2020.

ADDRESSES: Federal Communications Commission, 445 12th Street SW, Washington, DC 20554. Submissions should be filed in the Commission's Electronic Comment Filing System at: http://apps.fcc.gov/ecfs/.

FOR FURTHER INFORMATION CONTACT: Irene Bleiweiss, Attorney, Media Bureau, Audio Division, (202) 418-2785, Irene.Bleiweiss@fcc.gov.

SUPPLEMENTARY INFORMATION: This is a summary of the Commission's document, Report No. 3154, released July 21, 2020. The full text may be accessed online via the Commission's Electronic Comment Filing System at: http://apps.fcc.gov/ecfs/. The Commission will not send a Congressional Review Act (CRA) submission to Congress or the Government Accountability Office pursuant to the CRA, 5.U.S.C. 801(a)(1)(A), because no rules are being adopted by the Commission. This document is being published pursuant to 47 CFR 1.429(e). See also 47 CFR 1.4(b)(1) and 1.429(f), (g).

Subject: Amendment of Parts 73 and 74 to Improve the Low Power FM Radio Service Technical Rules; Modernization of Media Regulation Initiative, MB Docket Nos. 19-193, 17-105, Report and Order, FCC 20-53, published at 85 FR 35567, June 11, 2020.

Number of Petitions Filed: 2.

Federal Communications Commission.
Marlene Dortch,
Secretary, Office of the Secretary.

[FR Doc. 2020-16558 Filed 8-19-20; 8:45 am]

BILLING CODE 6712-01-P